DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Assistant Administrator for Risk Management (Acting), Federal Emergency Management Agency, Department of Homeland Security.

State and county | Location and case No. | Chief executive officer of community | Community map repository | Date of modification | Community No.
Arizona:
Yavapai (FEMA Docket No.: B-2259) | Town of Chino Valley (21-09-0899P) | The Honorable Jack W. Miller, Mayor, Town of Chino Valley, 202 North State Route 89, Chino Valley, AZ 86323 | Development Services and Planning Department, 1982 Voss Drive, Suite 203, Chino Valley, AZ 86323 | Oct. 28, 2022 | 040094
Yavapai (FEMA Docket No.: B-2259) | Unincorporated areas of Yavapai County (21-09-0899P) | The Honorable Mary L. Mallory, Chair, Yavapai County Board of Supervisors, 1015 Fair Street, Prescott, AZ 86305 | Yavapai County Flood Control District, 1120 Commerce Drive, Prescott, AZ 86305 | Oct. 28, 2022 | 040093
Arkansas: Johnson (FEMA Docket No.: B-2253) | Unincorporated areas of Johnson County (21-06-1009P) | The Honorable Herman H. Houston, Johnston County Judge, 215 West Main Street, Clarksville, AR 72830 | Johnson County Courthouse, 215 West Main Street, Clarksville, AR 72830 | Oct. 20, 2022 | 050441
Colorado:
Arapahoe (FEMA Docket No.: B-2253) | City of Littleton (21-08-0952P) | The Honorable Kyle Schlachter, Mayor, City of Littleton, 2255 West Berry Avenue, Littleton, CO 80120 | Public Works Department, 2255 West Berry Avenue, Littleton, CO 80120 | Oct. 21, 2022 | 080017
Arapahoe (FEMA Docket No.: B-2253) | Unincorporated areas of Arapahoe County (21-08-0952P) | The Honorable Nancy Jackson, Chair, Arapahoe County, Board of Commissioners, 5334 South Prince Street, Littleton, CO 80120 | Arapahoe County Public Works and Development Department, 6924 South Lima Street, Centennial, CO 80112 | Oct. 21, 2022 | 080011
Jefferson (FEMA Docket No.: B-2253) | Unincorporated areas of Jefferson County (21-08-0952P) | The Honorable Andy Kerr, Chair, Jefferson County Board of Commissioners, 100 Jefferson County Parkway, Suite 5550, Golden, CO 80419 | Jefferson County Planning and Zoning Division, 100 Jefferson County Parkway, Suite 3550, Golden, CO 80419 | Oct. 21, 2022 | 080087
Florida:
Monroe (FEMA Docket No.: B-2253) | Unincorporated areas of Monroe County (22-04-2567P) | The Honorable David Rice, Mayor, Monroe County Board of Commissioners, 9400 Overseas Highway, Suite 210, Marathon, FL 33050 | Monroe County Building Department, 2798 Overseas Highway, Suite 300, Marathon, FL 33050 | Oct. 27, 2022 | 125129
Monroe (FEMA Docket No.: B-2253) | Unincorporated areas of Monroe County (22-04-2665P) | The Honorable David Rice, Mayor, Monroe County Board of Commissioners, 9400 Overseas Highway, Suite 210, Marathon, FL 33050 | Monroe County Building Department, 2798 Overseas Highway, Suite 300, Marathon, FL 33050 | Oct. 24, 2022 | 125129
Orange (FEMA Docket No.: B-2268) | City of Orlando (22-04-0539P) | The Honorable Buddy Dyer, Mayor, City of Orlando, 400 South Orange Avenue, Orlando, FL 32801 | Public Works Department, Engineering Division, 400 South Orange Avenue, 8th Floor, Orlando, FL 32801 | Oct. 25, 2022 | 120186
Orange (FEMA Docket No.: B-2253) | Unincorporated areas of Orange County (22-04-1714P) | The Honorable Jerry L. Demings, Mayor, Orange County, 201 South Rosalind Avenue, 5th Floor, Orlando, FL 32801 | Orange County Public Works Department, Stormwater Management Division, 4200 South John Young Parkway, Orlando, FL 32839 | Oct. 31, 2022 | 120179
St. Johns (FEMA Docket No.: B-2259) | Unincorporated areas of St. Johns County (21-04-4854P) | Hunter Conrad, St. Johns County Administrator, 500 San Sebastian View, St. Augustine, FL 32084 | St. Johns County Planning Department, 4040 Lewis Speedway, St. Augustine, FL 32084 | Oct. 31, 2022 | 125147
Pennsylvania: Chester (FEMA Docket No.: B-2259) | Borough of Downingtown (22-03-0225P) | Stephen T. Sullins, Manager, Borough of Downingtown, 4-10 West Lancaster Avenue, Downingtown, PA 19335 | Borough Hall, 4-10 West Lancaster Avenue, Downingtown, PA 19335 | Oct. 31, 2022 | 420275
Rhode Island: Newport (FEMA Docket No.: B-2259) | Town of Little Compton (22-01-0157P) | Antonio A. Teixeira, Town of Little Compton Administrator, P.O. Box 226, Little Compton, RI 02837 | Building Department, 40 Commons, Little Compton, RI 02837 | Oct. 24, 2022 | 440035
South Carolina: Horry (FEMA Docket No.: B-2253) | Unincorporated areas of Horry County (22-04-0124P) | The Honorable Johnny Gardner, Chair, Horry County Council, P.O. Box 1236, Conway, SC 29528 | Horry County Government Office, 1301 2nd Avenue, Suite 1D09, Conway, SC 29526 | Oct. 21, 2022 | 450104
Tennessee: Williamson (FEMA Docket No.: B-2268) | Unincorporated areas of Williamson County (22-04-1913P) | The Honorable Rogers Anderson, Mayor, Williamson County, 1320 West Main Street, Suite 125, Franklin, TN 37064 | Williamson County Community Development Department, 1320 West Main Street, Suite 400, Franklin, TN 37064 | Oct. 21, 2022 | 470204
Texas:
Bell (FEMA Docket No.: B-2259) | City of Killeen (21-06-3142P) | The Honorable Debbie Nash-King, Mayor, City of Killeen, P.O. Box 1329, Killeen, TX 76541 | City Hall, 101 North College Street, Killeen, TX 76541 | Oct. 28, 2022 | 480031
Collin (FEMA Docket No.: B-2268) | City of McKinney (21-06-1828P) | The Honorable George Fuller, Mayor, City of McKinney, P.O. Box 517, McKinney, TX 75070 | Engineering Department, 221 North Tennessee Street, McKinney, TX 75069 | Oct. 24, 2022 | 480135
Collin (FEMA Docket No.: B-2268) | Unincorporated areas of Collin County (21-06-1828P) | The Honorable Chris Hill, Collin County Judge, 2300 Bloomdale Road, Suite 4192, McKinney, TX 75091 | Collin County Engineering Department, 4690 Community Avenue, Suite 200, McKinney, TX 75091 | Oct. 24, 2022 | 480130
Dallas (FEMA Docket No.: B-2259) | City of Carrollton (22-06-0338P) | The Honorable Steve Babick, Mayor, City of Carrollton, P.O Box 110535, Carrollton, TX 75011 | Engineering Department, 1945 East Jackson Road, Carrollton, TX 75006 | Oct. 31, 2022 | 480167
Johnson (FEMA Docket No.: B-2253) | City of Alvarado (22-06-0104P) | The Honorable Jacob Wheat, Mayor, City of Alvarado, 104 West College Street, Alvarado, TX 76009 | City Hall, 104 West College Street, Alvarado, TX 76009 | Oct. 20, 2022 | 480397
Johnson (FEMA Docket No.: B-2253) | Unincorporated areas of Johnson County (22-06-0104P) | The Honorable Roger Harmon, Johnson County Judge, 2 North Main Street, Cleburne, TX 76033 | Johnson County Public Works Department, 2 North Main Street, Cleburne, TX 76033 | Oct. 20, 2022 | 480879
Travis (FEMA Docket No.: B-2259) | City of Pflugerville (21-06-2969P) | The Honorable Victor Gonzales, Mayor, City of Pflugerville, 100 East Main Street, Suite 300, Pflugerville, TX 78660 | Development Services Center, 100 West Main Street, Pflugerville, TX 78660 | Oct. 31, 2022 | 481028
Travis (FEMA Docket No.: B-2259) | Unincorporated areas of Travis County (21-06-2969P) | The Honorable Andy Brown, Travis County Judge, P.O. Box 1448, Austin, TX 78767 | Travis County Transportation and Natural Resources Department, 00 Lavaca Street, 5th Floor, Austin, TX 78701 | Oct. 31, 2022 | 481026
Williamson (FEMA Docket No.: B-2259) | City of Hutto (21-06-3058P) | The Honorable Mike Snyder, Mayor, City of Hutto, 500 West Live Oak Street, Hutto, TX 78634 | City Hall, 500 West Live Oak Street, Hutto, TX 78634 | Oct. 31, 2022 | 481047
Williamson (FEMA Docket No.: B-2259) | Unincorporated areas of Williamson County (21-06-3058P) | The Honorable Bill Gravell, Jr., Williamson County Judge, 710 South Main Street, Suite 101, Georgetown, TX 78626 | Williamson County Engineering Department, 3151 Southeast Inner Loop, Georgetown, TX 78626 | Oct. 31, 2022 | 481079
Virginia: Chesterfield (FEMA Docket No.: B-2253) | Unincorporated areas of Chesterfield County (22-03-0241P) | Joseph P. Casey, Chesterfield County Administrator, P.O. Box 40, Chesterfield, VA 23832 | Chesterfield County Environmental Engineering Department, 9800 Government Center Parkway, Chesterfield, VA 23832 | Oct. 20, 2022 | 510035
Wyoming:
Big Horn (FEMA Docket No.: B-2259) | Town of Greybull (22-08-0396P) | The Honorable Myles Foley, Mayor, Town of Greybull, 24 South 5th Street, Greybull, WY 82426 | Town Hall, 24 South 5th Street, Greybull, WY 82426 | Oct. 21, 2022 | 560005
Big Horn (FEMA Docket No.: B-2259) | Unincorporated areas of Big Horn County (22-08-0396P) | The Honorable Dave Neves, Chair, Big Horn County Commissioners, P.O. Box 7, Emblem, WY 82422 | Big Horn County Engineering Department, 425 Murphy Street, Basin, WY 82410 | Oct. 21, 2022 | 560004

[FR Doc. 2022-24516 Filed 11-9-22; 8:45 am]

BILLING CODE 9110-12-P